DEPARTMENT OF COMMERCE

National Oceanic and Atmospheric Administration

50 CFR Part 218

[Docket No. 191211-0106]

RIN 0648-BI85

Taking and Importing Marine Mammals; Taking Marine Mammals Incidental to the U.S. Navy Training and Testing Activities in the Atlantic Fleet Training and Testing Study Area

Correction

In rule document 2019-27098, appearing on pages 70712 through 70794, in the issue of Monday, December 23, 2019, make the following correction:

On page 70719, in Table 2—Naval Air Systems Command Testing Activities Analyzed For Seven-Year Period in The AFTT Study Area, in the 5th column, in the sixth line down, “234” should read “928”.

[FR Doc. C1-2019-27098 Filed 1-10-20; 8:45 am]

BILLING CODE 1301-00-D